DEPARTMENT OF HEALTH AND HUMAN SERVICES

National Institutes of Health

National Institute on Aging; Amended Notice of Meeting

Notice is hereby given of a change in the meeting of the National Advisory Council on Aging, May 25, 2000, 1 p.m. to May 26, 2000, 12 p.m., 9000 Rockville Pike, Building 31C, Conference Room 6, Bethesda, MD, 20892 which was published in the Federal Register on April 18, 2000, 65 FR 21002.

The meeting has been changed to a one day meeting—May 25, 2000 from 1 p.m. to adjournment. The meeting will be open from 1 p.m. until 6 p.m. and closed from 6 p.m. until adjournment. The meeting is partially Closed to the public.

Dated: May 19, 2000.
LaVerne Y. Stringfield,
Director, Office of Federal Advisory Committee Policy.

[FR Doc. 00-13277 Filed 5-25-00; 8:45 am]

BILLING CODE 4140-01-M